DEPARTMENT OF AGRICULTURE

Food Safety and Inspection Service

[Docket No. FSIS-2017-0021]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act. This notice also provides a list of other standard-setting activities of Codex, including commodity standards, guidelines, codes of practice, and revised texts. This notice, which covers Codex activities during the time periods from June 1, 2016, to May 31, 2017, and June 1, 2017, to May 31, 2018, seeks comments on standards under consideration and recommendations for new standards.

ADDRESSES: FSIS invites interested persons to submit their comments on this notice. Comments may be submitted by one of the following methods:

• Federal eRulemaking Portal: This Web site provides the ability to type short comments directly into the comment field on this Web page or attach a file for lengthier comments. Go to http://www.regulations.gov. Follow the on-line instructions at the Web site for submitting comments.

• Mail, including CD-ROMs, etc.: Mail to the U.S. Department of Agriculture (USDA), FSIS, 1400 Independence Avenue SW., Mailstop 3782, Room 8-163B, Washington, DC 20250-3700.

• Hand- or courier-delivered items: Deliver to OPPD, RIMS, Docket Clearance Unit, Patriots Plaza 3, 355 E Street SW., Room 8-164, Washington, DC 20250-3700.

Instructions: All items submitted by mail or email are to include the Agency name and docket number FSIS-2017-0021. Comments received in response to this docket will be made available for public inspection and posted without change, including any personal information to http://www.regulations.gov.

Please state that your comments refer to Codex and, if your comments relate to specific Codex committees, please identify the committee(s) in your comments and submit a copy of your comments to the delegate from that particular committee.

Docket: For access to background documents or comments received, visit the FSIS Docket Room at Patriots Plaza 3, 355 E Street SW., Room 8-164, Washington, DC 20250-3700, between 8:00 a.m. and 4:30 p.m., Monday through Friday. A complete list of U.S. delegates and alternate delegates can be found in Attachment 2 of this notice.

FOR FURTHER INFORMATION CONTACT: Mary Frances Lowe, United States Manager for Codex Alimentarius, U.S. Department of Agriculture, Office of Food Safety, South Agriculture Building, 1400 Independence Avenue SW., Room 4861, Washington, DC 20250-3700; Telephone: (202) 205-7760; Fax: (202) 720-3157; Email: USCodex@fsis.usda.gov.

For information pertaining to particular committees, contact the delegate of that committee. Documents pertaining to Codex and specific committee agendas are accessible via the Internet at http://www.codexalimentarius.org/meetings-reports/en/. The U.S. Codex Office also maintains a Web site at http://www.fsis.usda.gov/wps/portal/fsis/topics/international-affairs/us-codex-alimentarius.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are Codex, the World Organisation for Animal Health, and the International Plant Protection Convention. The President, pursuant to Proclamation No. 6780 of March 23, 1995, (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

TO OBTAIN COPIES OF THE STANDARDS LISTED IN ATTACHMENT 1, PLEASE CONTACT THE CODEX DELEGATE, U.S. CODEX OFFICE, OR VISIT THE CODEX ALIMENTARIUS WEBSITE: http://www.fao.org/fao-who-codexalimentarius/standards/en/.

This notice also solicits public comment on standards that are currently under consideration or planned for consideration and recommendations for new standards. The delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex Committees and will disseminate information regarding U.S. delegation activities to interested parties. This information will include the status of each agenda item; the U.S. Government's position or preliminary position on the agenda items; and the time and place of planning meetings and debriefing meetings following the Codex committee sessions. In addition, the U.S. Codex Office makes much of the same information available through its Web page at http://www.fsis.usda.gov/wps/portal/fsis/topics/international-affairs/us-codex-alimentarius. If you would like to access or receive information about specific committees, please visit the Web page or notify the appropriate U.S. delegate or the U.S. Codex Office, Room 4861, South Agriculture Building, 1400 Independence Avenue SW., Washington, DC 20250-3700 (uscodex@fsis.usda.gov).

The information provided in Attachment 1 describes the status of Codex standard-setting activities by the Codex Committees for the time periods from June 1, 2016, to May 31, 2017, and June 1, 2017, to May 31, 2018. Attachment 2 provides a list of U.S. Codex Officials (including U.S. delegates and alternate delegates). A list of forthcoming Codex sessions may be found at: http://www.codexalimentarius.org/meetings-reports/en/.

Additional Public Notification

Public awareness of all segments of rulemaking and policy development is important. FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe.

Options range from recalls to export information, regulations, directives, and notices. Customers can add or delete subscriptions themselves, and have the option to password protect their accounts.

Done at Washington, DC, on August 31, 2017.
Mary Frances Lowe,
U.S. Manager for Codex Alimentarius.

Attachment 1:

Sanitary and Phytosanitary Activities of Codex

Codex Alimentarius Commission and Executive Committee

The Codex Alimentarius Commission convened for its 40th Session July 17-July 22, 2017, in Geneva, Switzerland. At that session, the Commission adopted standards recommended by Committees at Step 8 or Step 5/8, and it advanced the work of Committees by adopting draft standards at Step 5. The Commission also considered proposals for new work as well as proposed standards, codes of practice, amendments to the Procedural Manual, and related matters forwarded to the Commission by the general subject committees, commodity committees, and regional coordinating committees. In particular, the Commission considered proposals for new work by the Task Force on Antimicrobial Resistance; the Regular Review of Codex Work Management (electronic working groups); FAO/WHO Scientific Support for Codex; FAO/WHO Capacity Development and Trust Fund Activities; Relations between Codex and Other International Organizations; financial and budgetary issues; Election of the Chairperson, Vice-Chairpersons, and Members of the Executive Committee; and designation of Countries responsible for appointing the Chairpersons of Codex Subsidiary Bodies.

Before the Commission session, the Executive Committee met at its 73rd Session, July 10-13, 2017. It was composed of the chairperson; vice-chairpersons; seven members elected from the Commission from each of the following geographic regions: Africa, Asia, Europe, Latin America and the Caribbean, Near East, North America, and South-West Pacific; and regional coordinators from the six regional committees. Canada was the elected representative from North America; the United States participated as an advisor. The Executive Committee conducted a critical review of the elaboration of Codex standards and considered Revitalization of the FAO/WHO Regional Coordinating Committees; Implementation Status of the 2014-2019 Strategic Plan and Preparation of the 2020-2025 Strategic Plan; Committees Working by Correspondence; Codex and Sustainable Development Goals; FAO/WHO Scientific Support for Codex work; Relations between FAO and WHO Policies, Strategies and Guidelines and Codex Work; and financial and budgetary issues.

U.S. Participation: Yes.

Responsible Agency: USDA/FSIS/USCO.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish, or bees, whether used for therapeutic, prophylactic or diagnostic purposes, or for modification of physiological functions or behavior.

A Codex Maximum Residue Limit (MRL) for residues of veterinary drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product, and include residues of associated impurities of the veterinary drug concerned. An MRL is based on the type and amount of residue considered to be without any toxicological hazard for human health as expressed by the Acceptable Daily Intake (ADI) or on the basis of a temporary ADI that utilizes an additional safety factor. When establishing an MRL, consideration is also given to residues that occur in food of plant origin or the environment. Furthermore, the MRL may be reduced to be consistent with official recommended or authorized usage, approved by national authorities, of the veterinary drugs under practical conditions.

An ADI is an estimate made by the Joint FAO/WHO Expert Committee on Food Additives (JECFA) of the amount of a veterinary drug, expressed on a body weight basis, which can be ingested daily in food over a lifetime without appreciable health risk.

The Committee convened for its 23rd Session in Houston, Texas, October 17-21, 2016. The relevant document is REP17/RVDF. The following items were considered for adoption by the 40th Session of the Commission in July 2017:

Adopted at Step 5/8:

• Proposed draft MRLs for Lasalocid sodium (chicken, turkey, quail and pheasant kidney, liver, muscle, skin+fat); ivermectin (cattle fat, kidney, liver, muscle); and teflubenzuron (salmon filet, muscle).

Adopted at Step 5:

• Proposed draft Risk Management Recommendation for gentian violet.

The Committee will continue to work on the following items:

• Proposed draft MRLs for zilpaterol hydrochloride (cattle fat, kidney, liver, muscle);

• Draft Priority List of Veterinary drugs requiring evaluation or re-evaluation by JECFA;

• Discussion paper on MRLs for groups of fish species;

• Request for scientific advice to the FAO and WHO to address the issue of unavoidable and unintended residues of approved veterinary drugs in foods resulting from carry-over of veterinary drugs in feed;

• Database of countries' needs for MRLs;

• Analysis of the results of the global survey to provide information to the CCRVDF to move compounds from the database on countries' needs for MRLs to the JECFA priority list;

• Discussion paper on the evaluation of the rationale for the decline in new compounds to be included in the CCRVDF priority list for evaluation by JECFA;

• Discussion paper on edible offal tissues (possible definition and edible offal tissues of interest in international trade); and

• Discussion paper on the revision of the criteria for the use of multi-residue analytical methods for the determination and identification of veterinary drugs in foods.

Work on the following items has been discontinued:

• Proposed draft MRL for ivermectin (cattle muscle);

• Discussion paper on unintended presence of residues of veterinary drugs in food commodities resulting from the carry-over of drug residues; and

• Discussion paper on the establishment of a rating system to establish priority for CCRVDF work.

U.S. Participation: Yes.

Responsible Agencies: HHS/FDA/Center for Veterinary Medicine; USDA/FSIS.

Codex Committee on Contaminants in Foods

The Codex Committee on Contaminants in Foods (CCCF) establishes or endorses permitted maximum levels (MLs) or guideline levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates on standards or codes of practice for related subjects; and considers other matters assigned to it by the Commission in relation to contaminants and naturally occurring toxicants in food and feed.

The Committee convened for its 11th Session in Rio de Janeiro, Brazil, April 3-7, 2017. The relevant document is REP17/CF. The following items were considered for adoption by the 40th Session of the Commission in July 2017:

Adopted:

• MLs for lead and arsenic in fish oils (amendment-inclusion of fish oils).

Adopted at Step 5, 5/8 & 8:

• Proposed draft and draft MLs for lead in selected processed fruits and vegetables (revision of MLs, accompanied by proposed revocations of corresponding existing MLs when the Commission adopts final new MLs).

Adopted at Step 5/8:

• Proposed draft code of practice (COP) for the prevention and reduction of arsenic contamination in rice;

• Annex on ergot and ergot alkaloids in cereal grains (annex to the COP for the prevention and reduction of mycotoxin contamination in cereals); and

• Proposed draft COP for the prevention and reduction of mycotoxin contamination in spices.

The Committee will continue working on:

• MLs for total aflatoxins in ready to eat peanuts (establishment of MLs);

• MLs for lead in selected commodities in the General Standard for Contaminants and Toxins in Food and Feed;

• MLs for cadmium in chocolate and cocoa-derived products (establishment of MLs);

• MLs for mycotoxins in spices;

• MLs for methylmercury in fish;

• Revision of the COP for the prevention and reduction of dioxins and dioxin-like polychlorinated biphenyls in food and feed;

• Code of Practice for the reduction of 3-MCPD and glycidyl esters in refined oils and products made with refined oils;

• Guidelines (best practice) for risk analysis of chemicals in advertently present in food at low levels;

• Establishment of ML for hydrocyanic acid in fermented cooked cassava-based products and occurrence of mycotoxins in these products;

• Structured approach to prioritize commodities not in the General Standard for Contaminants and Toxins in Food and Feed for which new MLs for lead could be established;

• Aflatoxins and sterigmatocystin in cereals;

• Development of a COP for the prevention and reduction of cadmium contamination in cocoa;

• Forward work plan for CCCF; and

• Priority list of contaminants and naturally occurring toxicants proposed for evaluation by JECFA.

U.S. Participation: Yes.

Responsible Agencies: HHS/FDA; USDA/FSIS.

Codex Committee on Food Additives

The Codex Committee on Food Additives (CCFA) establishes or endorses acceptable MLs for individual food additives; prepares a priority list of food additives for risk assessment by the Joint FAO/WHO Expert Committee on Food Additives (JECFA); assigns functional classes to individual food additives; recommends specifications of identity and purity for food additives for adoption by the Codex Alimentarius Commission; considers methods of analysis for the determination of additives in food; and considers and elaborates standards or codes of practice for related subjects, such as the labeling of food additives when sold as such. The 49th Session of the Committee convened in Macao SAR, China, March 20-24, 2017. The relevant document is REP17/FA. Immediately before the Plenary Session there was a two-day physical Working Group on the General Standard for Food Additives (GSFA) chaired by the United States.

The following were considered by the 40th Session of the Commission in July 2017:

Adopted at Step 5/8:

• Proposed draft specifications for the identity and purity of food additives; and

• Proposed draft amendments to the Class Names and International Numbering System (INS) for Food Additives (CAC/GL 36-1989).

Adopted at Step 8 & 5/8:

• Draft and proposed draft food additive provisions of the GSFA.

Adopted:

• Amendment to the Introduction of the List of Codex Specifications for Food Additives (CAC/MISC 6);

• Revised food additive provisions of the GSFA related to the alignment of the standards for frozen fish products and of the Standards for Certain Canned Citrus Fruits (CODEX STAN 254-2007), Preserved Tomatoes (CODEX STAN 13-1981), Processed Tomato Concentrates (CODEX STAN 57-1981), and Table Olives (CODEX STAN 66-1981), and the EDTA provisions of the Standard for Canned Shrimps or Prawns (CODEX STAN 37-1981); and

• Revised food additive sections of the Standards for Preserved Tomatoes (CODEX STAN 13-1981), Processed Tomato Concentrates (CODEX STAN 57-1981), Quick Frozen Fin-Fish, Uneviscerated and Eviscerated (CODEX STAN 36-1981), Quick Frozen Shrimps or Prawns (CODEX STAN 92-1981), Quick Frozen Lobsters (CODEX STAN 95-1981), Quick Frozen Blocks of Fish Filets (CODEX STAN 190-1995), Quick Frozen Fish Fillet, Quick Frozen Fish Sticks (Fish Fingers), Fish Portions and Fish Fillets—Breaded and in Batter (CODEX STAN 166-1989), and Fresh and Quick Frozen Raw Scallop Products (CODEX STAN 315-2014).

The Committee will continue working on:

• Draft and proposed draft food additive provisions of the GSFA with an electronic working group (eWG) led by the United States);

• Proposals for additions and changes to the Priority List of Substances Proposed for Evaluation by JECFA:

○ The Committee noted that there are no specifications for sodium sorbate (INS 201). The Committee agreed that if a commitment is not made to provide sufficient data for the development of specifications at its next session (CCFA 50, 2018) sodium sorbate will be taken off of the priority list and existing adopted provisions for this additive in the GSFA and Codex Commodity Standards will be revoked.

• Alignment of the food additive provisions of commodity standards and relevant provisions of the GSFA; revised approach to listing commodity standards in Table 3 of the GSFA; and guidance for commodity committees in the alignment (eWG led by Australia and the United States);

• Revision of the Class Names and the International Numbering System for Food Additives (eWG led by Iran & Belgium);

• New or revised provisions of the GSFA with a physical working group (pWG) led by the United States;

• Discussion on the use of nitrates (INS 251, 252) and nitrites (INS 249, 250) (eWG led by the European Union and the Netherlands);

• Discussion paper on the use of the terms “unprocessed” and “plain” in the GSFA (Russian Federation); and

• Discussion paper on the “Future Strategies for CCFA” (Australia, Canada, China, Iran, and United States).

The Committee also agreed to hold a two-day physical Working Group on the GSFA immediately preceding the 50th Session of the CCFA in 2018, to be chaired by the United States. That group will discuss:

• The recommendations of the eWG on the GSFA on food additive provisions to be circulated for comment;

• New proposals and proposed revisions of food additive provisions in the GSFA; and

• Recommendations on the use of food additives in processed cheese.

U.S. Participation: Yes.

Responsible Agency: HHS/FDA.

Codex Committee on Pesticide Residues

The Codex Committee on Pesticide Residues (CCPR) is responsible for establishing maximum residue limits (MRLs)for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The 49th Session of the Committee met in Beijing, China, April 24-29, 2017. The relevant document is REP17/PR. The following items were considered at the 40th Session of the Codex Alimentarius Commission in July 2017:

Adopted at Step 8 & 5/8:

• Draft and proposed draft Maximum Residue Limits (MRLs) for pesticides in food and feed;

• Draft and proposed draft Revision of the Classification of Food and Feed (Vegetable Commodity Groups);

• Proposed draft Table 2 with examples of representative commodities for vegetable commodity groups, for inclusion in the Principles and Guidance for the Selection of Representative Commodities for the Extrapolation of MRLs for Pesticides to Commodity Groups;

• Draft and proposed draft Revision of the Classification of Food and Feed (Grasses); and

• Proposed draft Table 3 with examples of representative commodities for grasses, for inclusion in the Principles and Guidance for the Selection of Representative Commodities for the Extrapolation of MRLs for Pesticides to Commodity Groups.

Adopted at Step 5:

• Proposed draft Revision of the Classification of Food and Feed (Seeds for Beverages and Sweets).

Adopted at Step 8:

• Draft Guidelines on Performance Criteria for Methods of Analysis for the Determination of Pesticide Residues in Food and Feed.

The Committee will continue working on:

• Draft MRLs for pesticides;

• Proposed draft MRLs for pesticides;

• Proposed draft and draft revisions of the Classification of Food and Feed for selected commodity groups, including seeds for beverages and sweets;

• Discussion paper on the possible review of the International Estimate of Short-Tern Intake (IESTI) Equations;

• Establishment Codex Schedules and Priority Lists of Pesticides;

• Information on National Registrations of Pesticides; and

• Discussion paper on the Establishment of a Codex Database of National Registrations of Pesticides.

U.S. Participation: Yes.

Responsible Agencies: EPA; USDA/FSIS.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as, quality assurance systems for laboratories.

The 38th Session of the Committee met in Budapest, Hungary, May 8-12, 2017. The relevant document is REP17/MAS. The following items were considered by the Commission at its 40th Session in July 2017:

Adopted:

• Methods of Analysis and Sampling in Codex Standards; and

• Amendment to the Procedural Manual to refer to the sum of components.

The Committee will continue working on:

• Criteria for endorsement of biological methods to detect chemicals of concern;

• Follow-up work on the review and update of Codex Stan 234-1999;

• Future Work on database for Codex Methods of Analysis and Sampling Plans;

• Information document on Practical Examples on the Selection of Appropriate Sampling Plans;

• Proposals to amend the Guidelines on Measurement Uncertainty; and

• Proposal to amend the General Guidelines on Sampling.

U.S. Participation: Yes.

Responsible Agencies: HHS/FDA; USDA/Grain Inspection, Packers and Stockyards Administration.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 23rd Session of the Committee convened in Mexico City, Mexico, May 1-5, 2017. The relevant document is REP17/FICS. There following items were considered by the Commission at its 40th Session in July 2017:

Adopted at Step 8:

• Draft Principles and Guidelines for Monitoring the Performance of National Food Control Systems.

The Committee will continue working on the following items:

• New work on guidance on the use of systems equivalence;

• New work on guidance on paperless use of electronic certificates (Revision of Guidelines for Design, Production, Issuance and Use of Generic Official Certificates);

• New work on guidance on regulatory approaches to third party assurance schemes in food safety and fair practices in the food trade;

• Discussion paper on food integrity and food authenticity;

• Discussion paper on consideration of emerging issues and future directions for the work of the Codex Committee on Food Import and Export Inspection and Certification Systems;

• Framework for the preliminary assessment and identification of priority areas for CCFICs; and

• Inter-sessional physical working groups: trial broadcast via Webinar.

U.S. Participation: Yes.

Responsible Agencies: USDA/FSIS; HHS/FDA.

Codex Committee on Food Labelling

The Codex Committee on Food Labelling (CCFL) drafts provisions on labeling applicable to all foods; considers, amends, and endorses draft specific provisions on labeling prepared by the Codex Committees drafting standards, codes of practice, guidelines; and studies specific labeling problems assigned by the Codex Alimentarius Commission. The Committee also studies problems associated with the advertisement of food with particular reference to claims and misleading descriptions.

The Committee will convene its 44th Session in Asuncion, Paraguay, October 16-20, 2017. The Committee will continue to discuss the following items:

• Revision of the General Standard for the Labelling of Prepackaged Foods (GSLPF): Date Marking (proposed draft);

• Guidance for the labelling of non-retail containers;

• Consumer preference claims (discussion paper);

• Front-of-pack labelling (discussion paper); and

• Future work (discussion paper).

U.S. Participation: Yes.

Responsible Agencies: HHS/FDA; USDA/FSIS.

Codex Committee on Food Hygiene

The Codex Committee on Food Hygiene (CCFH):

• Develops basic provisions on food hygiene, applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to the FAO/WHO risk assessments.

The Committee convened for its 48th Session in Los Angeles, CA, November 7-11, 2016. The relevant document is REP 17/FH. The following items were considered by the 40th Session of the Commission in July 2017:

Adopted at Step 5/8:

• Proposed draft Revision of the Code of Hygienic Practice for Fresh Fruits and Vegetables.

Endorsed with modifications:

• Proposed draft Regional Code of Hygienic Practice for Street-Vended Foods in Asia.

The Committee will continue working on:

• Proposed draft Revision of the General Principles of Food Hygiene and its HACCP Annex;

• Proposed draft Guidance on Histamine Control;

• New work proposals/forward work plan; and

• Discussion paper on future work on Shiga Toxin-Producing Escherichia coli (STEC).

U.S. Participation: Yes.

Responsible Agencies: HHS/FDA; USDA/FSIS.

Codex Committee on Fresh Fruits and Vegetables

The Codex Committee on Fresh Fruits and Vegetables (CCFFV) is responsible for elaborating worldwide standards and codes of practice, as may be appropriate for fresh fruits and vegetables; for consulting as necessary, with other international organizations in the standards development process to avoid duplication.

The Committee will convene its 20th Session in Kampala, Uganda, October 2-6, 2017.

The committee will continue to discuss the following items:

• Matters arising from the Codex Alimentarius Commission and other Committees;

• Matters arising from other international organizations on the standardization of fresh fruits and vegetables;

• Draft Standard for Aubergines;

• Draft Standard for Garlic;

• Draft Standard for Kiwifruit;

• Draft Standard for Ware Potatoes;

• Draft Standard for Fresh Dates;

• Proposals for new work on Codex standards for fresh fruits and vegetables;

• Proposed layout for Codex standard for fresh fruits and vegetables (outstanding issues);

• Discussion paper on glossary of terms used in the layout for Codex standards for fresh fruits and vegetables; and

• Other Business.

U.S. Participation: Yes.

Responsible Agencies: USDA/Agricultural Marketing Service (AMS); HHS/FDA.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee convened for its 38th Session in Hamburg, Germany, December 5-9, 2016. The reference document is REP 17/NFSDU. The following items were considered by the Commission at its 40th Session in July 2017:

Adopted:

• Proposed amendments to section 6, paragraph 33 of the nutritional risk analysis principles in the Codex Procedural Manual to refer to the Joint Expert Meeting on Nutrition (JEMNU) as a primary source of scientific advice to the Committee;

• Editorial amendments to the Guidelines on Nutrition Labelling;

• Editorial amendments to various CCNFSDU standards with respect to flavoring; and

• Nutrient Reference Values-Requirements (NRV-R) for Vitamins D and E and the conversion factors for Vitamin E equivalents.

The Committee will continue working on:

• NRV-R's for older infants and young children;

• Revision of the Codex Standard for Follow-Up Formula (Section A: proposed draft essential composition and quality factors; Section B: certain essential composition and quality factors—young children);

• Review of other sections of the Standard for Follow-up Formula;

• Proposed draft Definition for Bio-fortification;

• Proposed draft Nutrient Reference Values-Non-Communicable Diseases (NRV-NCD) for EPA and DHA long chain omega-3 fatty acids;

• Proposed draft Guidelines for Ready-to-Use Therapeutic Foods;

• Claim for “free” of trans fatty acids;

• Mechanism/framework for considering technological justification/consider or confirm technological justification for certain food additives;

• Methods of analysis for provisions in the standard for infant formula and formulas for special medical purposes intended for infants; and

• Consideration of possible Guidance on Digestible Indispensable Amino Acid Score for protein quality assessment.

U.S. Participation: Yes.

Responsible Agencies: HHS/FDA; USDA/Agricultural Research Service (ARS).

Ad hoc Codex Intergovernmental Task Force on Antimicrobial Resistance

The Ad hoc Codex Intergovernmental Task Force on Antimicrobial Resistance (TFAMR) is responsible for (1) reviewing and revising, as appropriate, the Code of Practice to Minimize and Contain Antimicrobial Resistance (CAC/RCP 61-2005) to address the entire food chain, in line with the mandate of Codex; and (2) considering the development of Guidance on Integrated Surveillance of Antimicrobial Resistance, taking into account the guidance developed by the WHO Advisory Group on Integrated Surveillance of Antimicrobial Resistance (AGISAR) and relevant World Organisation for Animal Health (OIE) documents. The objective of the Task Force is to develop science-based guidance on the management of foodborne antimicrobial resistance, taking full account of the WHO Global Action Plan on Antimicrobial Resistance, in particular objectives 3 and 4, the work and standards of relevant international organizations, such as FAO, WHO, and OIE, and the One-Health approach, to ensure members have the necessary guidance to enable coherent management of antimicrobial resistance along the food chain. The Task Force is expected to complete its work within three (or a maximum of four) sessions.

The Task force will convene for its 1st Session in the Republic of Korea, November 27—December 1, 2017.

U.S. Participation: Yes.

Responsible Agencies: FDA/USDA.

Codex Committee on Fats and Oils

The Codex Committee on Fats and Oils (CCFO) is responsible for elaborating worldwide standards for fats and oils of animal, vegetable, and marine origin, including margarine and olive oil.

The Committee convened for its 25th Session in Kuala Lumpur, Malaysia, February 27-March 3, 2017. The relevant document is REP17/FO-Rev. The following items were considered by the Commission at its 40th Session in July 2017:

Adopted at Step 8:

• Draft Standard for Fish Oils.

Adopted at Step 5/8:

• Proposed draft Revision to the Standard for Olive Oils and Olive Pomace Oils (Codex Stan 210-1999): Revision of the Limits for Campesterol; and

• Proposed draft Revision to the Standard for Named Vegetable Oils: Revision of Quality Parameters for Peanut Oil.

Adopted at Step 5:

• Proposed draft Revision to the Standard for Named Vegetable Oils: Addition of Palm Oil with High Oleic Acid.

Adopted:

• Amendment to the Sections on Flavourings of Codex Standard 19-1981 (Section 3.3), Codex Stan 210-1999 (Section 4.1), and Codex Stan 256-2007; and

• Amendment to Section 2 in the Appendix of the Standard for Named Vegetable Oils: fatty acid range of crude rice bran oil.

Approved as new work:

• Revision of the Standard for Named Vegetable Oils: Essential composition of sunflower seed oils;

• Revision of the Standard for Named Vegetable Oils: Inclusion of walnut oil, almond oil, hazelnut oil, pistachio oil, flaxseed oil, and avocado oil;

• Revision of the Standard for Named Vegetable Oils: Replacement of acid value with free fatty acids for virgin palm oil and inclusion of free fatty acids for crude palm kernel oil; and

• Revision of the Standard for Olive Oils and Pomace Olive Oils (Codex Stan 33-1981).

The Committee will continue working on:

• Gathering information on technical difficulties in the implementation of the fish oil standard, specifically on monitoring its application with respect to the conformity of named fish oils with the requirements (especially the fatty acid profile) and its effect on trade;

• Alignment of food additives provisions in standards for fats and oils (except fish oils) and technological justification for use of emulsifiers;

• Considering proposals for new substances to be added to the list of acceptable previous cargoes;

• Providing relevant information (if available from Member countries) to JECFA on the 23 substances on the list of acceptable previous cargoes currently on the list; and

• Discussion paper on the applicability of the fatty acid composition of all oils listed in Table 1 in relation to the fatty acid composition of corresponding crude (unrefined) form in the Standard for Named Vegetable Oils.

U.S. Participation: Yes.

Responsible Agencies: HHS/FDA; USDA/Agricultural Research Service (ARS).

Codex Committee on Processed Fruits and Vegetables

The Codex Committee on Processed Fruits and Vegetables (CCPFV) is responsible for elaborating worldwide standards and related texts for all types of processed fruits and vegetables including, but not limited to canned, dried, and frozen products, as well as fruit and vegetable juices and nectars.

The Committee convened for its 28th Session in Washington, DC, September 12-16, 2016. The relevant document is REP17/PFV. The following items were considered for adoption by the 40th Session of the Commission in July 2017:

Adopted at Step 5/8:

• Annex on Canned Pineapples, for inclusion on the Standard for Certain Canned Fruits; and

• Annexes for Certain Quick Frozen Vegetables, for inclusion in the Standard for Quick Frozen Vegetables.

Adopted:

• Amendment to the Scope of the Standard for Certain Canned Fruits;

• Amendments to the food additive provisions in Codex standards for processed fruits and vegetables (subject to endorsement by CCFA);

• Standard for Canned Chestnuts and Canned Chestnut Puree;

• Standard for Pickled Fruits and Vegetables;

• Standard for Jams, Jellies, and Marmalades;

• Standard for Canned Applesauce;

• Standard for Canned Fruit Cocktail;

• Standard for Canned Tropical Fruit Salad;

• Standard Pickled Cucumbers;

• Standard for Kimchi; and

• Standard for Canned Stone Fruits.

Proposals for new work were received by CCEXEC and approved by CAC for cashew kernels, chili sauce, mango chutney, dried sweet potato, gochujang, dried fruits, and canned mixed fruits.

The Commission authorized CCPFV to work by correspondence until CAC 41 (2018) to prioritize the proposals for new work, prepare a work plan, and prepare recommendations on the establishment of electronic working groups.

U.S. Participation: Yes.

Responsible Agencies: USDA/Agricultural Marketing Service; HHS/FDA.

Codex Committee on Sugars

The Codex Committee on Sugars (CCS) elaborates worldwide standards for all types of sugars and sugar products.

The Committee has been re-activated electronically to work by correspondence on a draft Standard for Non-Centrifuged Dehydrated Sugar Cane Juice.

The following was considered by the Commission at its 40th Session in July 2017.

• Draft Standard for Non-Centrifuged Dehydrated Sugar Cane Juice (scope and definition of the product).

The Commission agreed to extend the work on development of this standard for one year.

Responsible Agencies: HHS/FDA.

U.S. Participation: Yes.

Codex Committee on Cereals Pulses & Legumes

The Codex Committee on Cereals, Pulses and Legumes (CCCPL) elaborates worldwide standards and/or codes of practice, as appropriate, for cereals pulses and legumes and their products.

The Committee has been reactivated to work by correspondence to draft an international Codex Standard for Quinoa. The following item was considered by the Commission at its 40th Session in July 2017:

Adopted at Step 5:

• Standard for Quinoa

The Commission agreed to establish an eWG chaired by the Plurinational State of Bolivia and co-chaired by the United States and to continue the work to address the outstanding issues.

The Commission also requested that the CCCF consider including quinoa in the MLs for lead and cadmium in cereals in the GSCTFF, in accordance with the recommendations of the 73rd session of CCEXEC.

No additional work is ongoing in this Committee. It will again be adjourned sine die once the work on the international Codex Standard for Quinoa is completed.

Responsible Agencies: HHS/FDA.

U.S. Participation: Yes.

Codex Committee on Milk and Milk Products

The Codex Committee on Milk and Milk Products (CCMMP) elaborates worldwide standards, codes and related texts for milk and milk products. The Committee was reactivated to work by correspondence on a general standard for processed cheese and a Draft Standard for Dairy Permeate Powders. Consensus has not been reached on the general standard for processed cheese. In 2016, the Commission agreed to discuss this item at the Commission session in 2017, noting the offer of New Zealand as host country of CCMMP to collate any substantial new ideas provided by members in the interim. No new proposals were received, and the Commission discontinues work on this standard at its 2017 session. The draft Standard for Dairy Permeate Powders was adopted by the Commission at Step 8 at its 2017 session.

U.S. Participation: Yes.

Responsible Agencies: USDA/AMS.

Certain Codex Commodity Committees

Several Codex Alimentarius Commodity Committees have adjourned sine die. The following Committees fall into this category:

• Cocoa Products and Chocolate—adjourned 2001

U.S. Participation: Yes.

Responsible Agency: HHS/FDA.

• Fish and Fishery Products—adjourned 2016

U.S. Participation: Yes.

Responsible Agency: HHS/FDA/NOAA.

• Meat Hygiene—adjourned 2003

U.S. Participation: Yes.

Responsible Agency: USDA/FSIS.

• Natural Mineral Waters—adjourned 2008

U.S. Participation: Yes.

Responsible Agency: HHS/FDA.

• Vegetable Proteins—adjourned 1989

U.S. Participation: Yes.

Responsible Agency: USDA/ARS.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to them by the Commission; and promote the use of Codex standards and related texts by members.

There are six regional coordinating committees:

Coordinating Committee for Africa

Coordinating Committee for Asia

Coordinating Committee for Europe

Coordinating Committee for Latin America and the Caribbean

Coordinating Committee for the Near East

Coordinating Committee for North America and the South West Pacific

Coordinating Committee for Africa

The Committee (CCAFRICA) convened its 22nd Session January 16-20, 2017, in Nairobi, Kenya. The relevant document is REP 17/Africa. The following items were considered by the 40th Session of the Commission in July 2017.

Adopted at Step 5/8:

• Proposed draft Regional Standard for Unrefined Shea Butter.

Adopted at Step 5:

• Proposed draft Regional Standard for Fermented Cooked Cassava Based Products; and

• Proposed draft Regional Standard for Gnetum Spp leaves.

The Committee will continue to work on the following items:

• Proposed draft Regional Standard for Unrefined Shea Butter;

• Proposed draft Regional Standard for Fermented Cooked Cassava Based Products;

• Proposed draft Regional Standard for Gnetum Spp leaves;

• Priority Setting criteria for the establishment of work priorities as laid down in the Codex Procedural Manual;

• Comments on the preparation of the new global Codex Strategic Plan;

• Food quality and safety situation in countries of the Region (on-line platform, prioritization of needs in the region and comments for future consideration);

• Use of Codex Standards in the Region;

• Proposed draft Standard on Dried Meat;

• Discussion paper and project document on a Harmonized Food Law; and

• Discussion paper/project on a Regional Standard for a Fermented Non-Alcoholic Cereal Based Drink (Mahewu).

U.S. Participation: Yes (as observer).

Responsible Agency: USDA/FSIS/USCO.

Coordinating Committee for Asia

The Committee (CCASIA) convened its 20th Session in New Delhi, India, September 26-30, 2016. The relevant document is REP 17/Asia. The following items were considered by the 40th Session of the Commission in July 2017.

Adopted at Step 5/8:

• Proposed draft Regional Standard for Laver Products; and

• Proposed draft Regional Code of Hygienic Practice for Street-Vended Foods in Asia.

Adopted:

• Amendments to the CCASIA Regional Standards.

The committee will continue to work on the following items:

• Report on the status of the Implementation of the Activities of the Strategic Plan Relevant to CCASIA;

• Discussion paper and project document on the Development of a Regional Standard for Rice Based Low Alcohol Beverages (cloudy types);

• Discussion paper and project document on the Development of a Regional Standard for Soybean Products Fermented with the Bacterium Bacillus Subtilis;

• Discussion paper and project document on the Development of a Regional Standard for Quick Frozen Dumpling (Jiaozi);

• Discussion paper and the project document on the Development of a Regional Standard/Code of Practice for Zongzi;

• Emerging Issues as priorities for the CCASIA region; and

• Information sharing on the Food Safety Control Systems.

U.S. Participation: Yes (as observer).

Responsible Agency: USDA/FSIS/USCO.

Coordinating Committee for Europe

The Committee (CCEUROPE) convened its 30th Session in Astana, Kazakhstan, October 3-7, 2016. The relevant document is REP 17/EURO.

The Committee will continue to work on the following items:

• Survey on critical and emerging issues;

• On-line Platform and information sharing on the Food Safety Control Systems;

• Survey on the use of Codex Standards;

• Relevant languages of the Codex Alimentarius Commission in the work of CCEUROPE; and

• Consider funding translation and interpretation services into Russian for the effective operation of CCEUROPE.

U.S. Participation: Yes (as observer).

Responsible Agency: USDA/FSIS/USCO.

Coordinating Committee for Latin America and the Caribbean

The Coordinating Committee for Latin America and the Caribbean (CCLAC) convened its 20th Session in Vina del Mar, Chile, November 21-25, 2016. The relevant document is REP 17/LAC. The following item was considered by the 40th Session of the Commission in July 2017.

Adopted:

• Proposed draft Regional Standard for Yacon.

The Committee will continue to work on the following items:

• Monitoring of the Strategic Plan for the CCLA;

• Critical and Emerging Issues and prioritization of CCLAC issues within the framework of Codex Mandate;

• Comments on the Food Safety Control Systems Platform;

• Cross-cutting topics for the region and proposed draft standards and discussions seeking regional support; and

• Proposal for the Development of a Standard for Yams.

U.S. Participation: Yes (as observer).

Responsible Agency: USDA/FSIS/USCO.

Coordinating Committee for the Near East

The Coordinating Committee for the Near East (CCNEA) held its 9th Session at FAO Headquarters in Rome, Italy, May 15-19, 2017. The relevant document is REP 17/NE.

The Committee forwarded the following items to the 40th Session of the Codex Alimentarius Commission for consideration:

• Proposed draft Regional Standard for Doogh for adoption at step 5/8 and endorsement by the Codex Committee on Food Additives (CCFA) and the Codex Committee on Food Labeling (CCFL) of the relevant provisions within the draft standard;

• Proposed draft Regional Standard for Zaatar for adoption at step 5.

U.S. Participation: No.

Responsible Agency: USDA/FSIS/USCO.

Coordinating Committee for North America and the South West Pacific (CCNASWP)

The Committee (CCNASWP) convened its 14th Session in Port Vila, Vanuatu, September 19-22, 2016. The relevant document is REP 17/NASWP. The following items were considered by the 40th Session of the Commission in July 2017.

The Committee will continue to work on the following items:

• New work on the development of a Regional Standard for Kava as a beverage when mixed with cold water;

• Recommendation that Vanuatu be re-appointed as Coordinator for North America and the South West Pacific;

• Proposed draft Regional Standard for Fermented Noni-Juice;

• Development of on-line platform for information on sharing food quality and safety systems.

U.S. Participation: Yes.

Responsible Agency: USDA/FSIS/USCO.

Contact:

U.S. Codex Office, United States Department of Agriculture, Room 4861, South Agriculture Building, 1400 Independence Avenue SW., Washington, DC 20250-3700, Phone: (202) 205-7760, Fax: (202) 720-3157, Email: uscodex@fsis.usda.gov.

ATTACHMENT 2

U.S. CODEX ALIMENTARIUS OFFICIALS

CODEX CHAIRPERSONS FROM THE UNITED STATES

Codex Committee on Food Hygiene

Emilio Esteban, DVM, MBA, MPVM, Ph.D., Executive Associate for Laboratory Services, Office of Public Health Science, Food Safety and Inspection Service, U.S. Department of Agriculture, 950 College Station Road, Athens, GA 30605, Phone: (706) 546-3429, Fax: (706) 546-3428, Email: emilio.esteban@fsis.usda.gov.

Codex Committee on Processed Fruits and Vegetables

Richard Boyd, Chief, Contract Services Branch, Specialty Crops Inspection Division, Specialty Crops Program, Agricultural Marketing Service, U.S. Department of Agriculture, 1400 Independence Avenue SW., Mail Stop 0247, Room 0726-South Building, Washington, DC 20250, Phone: (202) 690-1201, Fax: (202) 690-1527, Email: richard.boyd@ams.usda.gov.

Codex Committee on Residues of Veterinary Drugs in Foods

Kevin Greenlees, Ph.D., DABT, Senior Advisor for Science and Policy, Office of New Animal Drug Evaluation, HFV-100, Center for Veterinary Medicine, U.S. Food and Drug Administration, 7500 Standish Place, Rockville, MD 20855, Phone: (240) 402-0638, Fax: (240) 276-9538, kevin.greenlees@fda.hhs.gov.

U.S. Delegates and Alternate Delegates

WORLDWIDE GENERAL CODEX SUBJECT COMMITTEES

Contaminants in Foods

(Host Government—The Netherlands)

U.S. Delegate

Dr. Lauren Posnick Robin, Branch Chief, Plant Products Branch, Division of Plant Products and Beverages, Office of Food Safety (HFS-317), Center for Food Safety and Applied Nutrition, U.S. Food and Drug Administration, 5001 Campus Drive, College Park, MD 20740, Phone: +1 (240) 402-1369, Lauren.Robin@fda.hhs.gov.

Alternate Delegate

Terry Dutko, Ph.D., Laboratory Director, Office of Public Health Science, Food Safety and Inspection Service, 4300 Goodfellow Building, 105D Federal, St. Louis, MO 63120-0005, Phone: +1 (314) 263-2680 Ext. 344, Terry.Dutko@fsis.usda.gov.

Food Additives

(Host Government—China)

U.S. Delegate

Paul S. Honigfort, Ph.D., Supervisory Consumer Safety Officer, Division of Food Contact Notifications (HFS-275), Office of Food Additive Safety, U.S. Food and Drug Administration, 5001 Campus Drive, College Park, MD 20740, Phone: +1 (240) 402-1206, Fax: +1 (301) 436-2965, Paul.Honigfort@fda.hhs.gov.

Alternate Delegate

Daniel Folmer, Ph.D., Chemist, Center for Food Safety and Applied Nutrition, U.S. Food and Drug Administration, 5001 Campus Drive, Room 3017 HFS-265, College Park, MD 20740, Phone: +1 (240) 402-1274, Daniel.Folmer@fda.hhs.gov.

Food Hygiene

(Host Government—United States)

U.S. Delegate

Jenny Scott, Senior Advisor, Office of Food Safety, Center for Food Safety and Applied Nutrition, U.S. Food and Drug Administration, 5001 Campus Drive, HFS-300, Room 3B-014, College Park, MD 20740-3835, Phone: +1 (240) 402-2166, Fax: +1 (301) 436-2632, Jenny.Scott@fda.hhs.gov.

Alternate Delegates

William Shaw, Director, Risk, Innovation & Management Staff, Food Safety and Inspection Service, 355 E Street SW., Room 8-142, Patriots Plaza III, Washington, DC 20024, Phone: +1 (301) 504-0852, Email: William.Shaw@fsis.usda.gov.

Andrew Chi Yuen Yeung, Ph.D., Branch Chief, Egg and Meat Products Branch, Division of Dairy, Egg and Meat Products, Office of Food Safety, Center for Food Safety and Applied Nutrition, U.S. Food and Drug Administration, 5001 Campus Drive, College Park, MD 20740, United States of America, Phone: +1 (240) 402-1541, Fax: +1 (301) 436-2632, Andrew.Yeung@fda.hhs.gov.

Food Import and Export Certification and Inspection Systems

(Host Government—Australia)

U.S. Delegate

Mary Stanley, Senior Advisor, Office of International Coordination, Food Safety and Inspection Service, U.S. Department of Agriculture, Room 3151, South Agriculture Building, 1400 Independence Avenue SW., Washington, DC 20250, Phone: +1 (202) 720-0287, Fax: +1 (202) 690-3856, Mary.Stanley@fsis.usda.gov.

Alternate Delegate

Caroline Smith DeWaal, International Food Safety Policy Manager, Office of the Center Director, Center for Food Safety and Applied Nutrition, U.S. Food and Drug Administration, 5001 Campus Drive, Room 4A011, College Park, MD, USA 20740-3835, Phone: +1 (240) 402-1242, Caroline.DeWaal@fda.hhs.gov.

Food Labelling

(Host Government—Canada)

U.S. Delegate

Felicia B. Billingslea, Director, Food Labeling and Standards Staff, Office of Nutrition, Labeling, and Dietary Supplements, Center for Food Safety and Applied Nutrition, U.S. Food and Drug Administration, 5001 Campus Drive, (HFS-820), College Park, MD 20740, Phone: +1 (240) 402-2371, Fax: +1 (301) 436-2636, Felicia.Billingslea@fda.hhs.gov.

Alternate Delegate

Jeffrey Canavan, Deputy Director, Labeling and Program Delivery Staff, Food Safety and Inspection Service, U.S. Department of Agriculture, 1400 Independence Avenue SW., Mail Stop 5273, Patriots Plaza 3, 8th Floor-161A, Washington, DC 20250, Phone: +1 (301) 504-0860, Fax: +1 (202) 245-4792, Jeff.Canavan@fsis.usda.gov.

General Principles

(Host Government—France)

Delegate Note: A member of the Steering Committee heads the delegation to meetings of the General Principles Committee.

Methods of Analysis and Sampling

(Host Government—Hungary)

U.S. Delegate

Gregory Noonan, Director, Division of Bioanalytical Chemistry, Division of Analytical Chemistry, Center for Food Safety and Applied Nutrition, Food and Drug Administration, 5001 Campus Drive, College Park, MD 20740, Phone: +1 (240) 402-2250, Fax: +1 (301) 436-2332, Gregory.Noonan@fda.hhs.gov.

Alternate Delegate

Dr. Timothy Norden, Chief Scientist, Grain Inspection, Packers and Stockyards Administration (GIPSA), Technology & Science Division, U.S. Department of Agriculture, 10383 N. Ambassador Dr., Kansas City, MO 64153, USA, Phone: +1 (816) 891-0470, Fax: +1 (816) 872-1253, Timothy.D.Norden@usda.gov.

Nutrition and Foods for Special Dietary Uses

(Host Government—Germany)

U.S. Delegate

Douglas Balentine, Director, Office of Nutrition, Center for Food Safety and Applied Nutrition, U.S. Food and Drug Administration, 5001 Campus Drive, Room 4C096, College Park, MD, USA 20740-3835, Phone: +1 (240) 402-2373, Douglas.Balentine@fda.hhs.gov.

Alternate Delegate

Pamela R. Pehrsson, Ph.D., Research Leader, USDA, Agricultural Research Service, Nutrient Data Laboratory, Room 105, Building 005, BARC-West, 10300 Baltimore Avenue, Beltsville, MD 20705, 301-504-0630 (voice), 301-504-0632 (fax), Pamela.Pehrsson@ars.usda.gov.

Pesticide Residues

(Host Government—China)

U.S. Delegate

Captain David Miller, Chief, Chemistry & Exposure Branch, and Acting Chief, Toxicology & Epidemiology Branch, Health Effects Division, William Jefferson Clinton Building, 1200 Pennsylvania Avenue NW., Washington, DC 20460, Phone: +1 (703) 305-5352, Fax: +1 (703) 305-5147, Miller.Davidj@epa.gov.

Alternate Delegate

Dr. Pat Basu, Senior Leader, Chemistry, Toxicology & Related Sciences, Office of Public Health Science, Food Safety and Inspection Service, U.S. Department of Agriculture, 1400 Independence Ave. SW., Room 3805, Washington, DC 20250-3766, Phone: +1 (202) 690-6558, Fax: +1 (202) 690-2364, Pat.Basu@fsis.usda.gov.

Residues of Veterinary Drugs in Foods

(Host Government—United States)

U.S. Delegate

Brandi Robinson, MPH, CPH ONADE International Coordinator, Center for Veterinary Medicine, U.S. Food and Drug Administration, 7500 Standish Place, HFV-100, Rockville, MD 20855, Phone: +1 (240) 402-0645, Brandi.Robinson@fda.hhs.gov.

Alternate Delegate

Charles Pixley, DVM, Ph.D., Director, Laboratory Quality Assurance Staff, Office of Public Health Science, Food Safety and Inspection Service, U.S. Department of Agriculture, 950 College Station Road, Athens, GA 30605, Phone: +1 (706) 546-3559, Fax: +1 (706) 546-3452, Charles.Pixley@fsis.usda.gov.

WORLDWIDE COMMODITY CODEX COMMITTEES (ACTIVE)

Cereals, Pulses and Legumes

(Host Government—United States)

U.S. Delegate

Dr. Henry Kim, Office of Food Safety, Senior Policy Analyst, Center for Food Safety and Applied Nutrition, U.S. Food and Drug Administration, 5001 Campus Drive (HFS-317), College Park, MD, USA 20740-3835, Phone: +1 (240) 402-2023, henry.kim@fda.hhs.gov.

Alternate Delegate

Patrick McCluskey, Supervisory Agricultural Marketing Specialist, United States Department of Agriculture, Grain Inspection, Packers and Stockyards Administration, 10383 N. Ambassador Drive, Kansas City, MO 64153, Phone: +1 (816) 659-8403, Patrick.J.Mccluskey@usda.gov.

Fats and Oils

(Host Government—Malaysia)

U.S. Delegate

Dr. Paul South, Director, Division of Plant Products and Beverages, Office of Food Safety (HFS-317), Center for Food Safety and Applied Nutrition, U.S. Food and Drug Administration, 5001 Campus Drive, College Park, MD, USA 20740-3835, Phone: +1 (240) 402-1640, Fax: +1 (301) 436-2632, Paul.South@fda.hhs.gov.

Alternate Delegate

Robert A. Moreau, Ph.D., Research Leader, Eastern Regional Research Center, Agricultural Research Service, U.S. Department of Agriculture, 600 East Mermaid Lane, Wyndmoor, PA 19038, Phone: +1 (215) 233-6428, Fax: +1 (215) 233-6406, Robert.Moreau@ars.usda.gov.

Fresh Fruits and Vegetables

(Host Government—Mexico)

U.S. Delegate

Dorian LaFond, International Standards Coordinator, Fruit and Vegetables Program, Specialty Crop Inspection Division, Agricultural Marketing Service, U.S. Department of Agriculture, Mail Stop 0247, South Agriculture Building, 1400 Independence Avenue SW., Washington, DC 20250-0247, Phone: +1 (202) 690-4944, Fax: +1 (202) 690-1527, Dorian.Lafond@usda.gov.

Alternate Delegate

David T. Ingram, Ph.D., Consumer Safety Officer, Office of Food Safety, Fresh Produce Branch, Division of Produce Safety, Center for Food Safety and Applied Nutrition, U.S. Food and Drug Administration, 5001 Campus Drive, Room 3E027, College Park, MD, USA 20740-3835, Phone: +1 (240) 402-0335, David.Ingram@fda.hhs.gov.

Milk and Milk Products

(Host Government—New Zealand)

U.S. Delegate

Christopher Thompson, Dairy Standardization Branch, Mail Stop 0230, Room 2742, Agricultural Marketing Service, U.S. Department of Agriculture, 1400 Independence Avenue SW., Washington, DC 20250, Phone: +1 (202) 720-9382, Fax: +1 (844) 804-4701, Christopher.D.Thompson@ams.usda.gov.

Alternate Delegate

John F. Sheehan, Director, Division of Dairy, Egg and Meat Product Safety, Office of Food Safety, Center for Food Safety and Applied Nutrition, U.S. Food and Drug Administration (HFS-3 15), Harvey W. Wiley Federal Building, 5001 Campus Drive, College Park, MD 20740, Phone: +1 (240) 402-1488, Fax: +1 (301) 436-2632, John.Sheehan@fda.hhs.gov.

Processed Fruits and Vegetables

(Host Government—United States)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, Dorian.Lafond@usda.gov.

Alternate Delegate

Dr. Yinqing Ma, Branch Chief, Beverages Branch, Division of Plant Products and Beverages, Office of Food Safety (HFS-317), Center for Food Safety and Applied Nutrition, U.S. Food and Drug Administration, 5001 Campus Drive, College Park, MD 20740, Phone: +1 (240) 402-2479, Fax: +1 (301) 436-2632, Yinqing.Ma@fda.hhs.gov.

Spices and Culinary Herbs

(Host Government—India)

U.S. Delegate

Dorian LaFond, International Standards Coordinator, Fruit and Vegetables Program, Specialty Crop Inspection Division, Agricultural Marketing Service, U.S. Department of Agriculture, Mail Stop 0247, South Agriculture Building, 1400 Independence Avenue SW., Washington, DC 20250-0247, Phone: +1 (202) 690-4944, Fax: +1 (202) 690-1527, Dorian.Lafond@usda.gov.

Alternate Delegate

George C. Ziobro, Ph.D., Egg and Meat Products Branch, HFS-316, Division of Diary, Egg, and Meat Products, Office of Food Safety Center for Food Safety and Applied Nutrition, 5001 Campus Drive, College Park, MD 20740, Phone: +1 (240) 402-1965, George.Ziobro@fda.hhs.gov.

Sugars

(Host Government—Colombia)

U.S. Delegate

Dr. Chia-Pei Charlotte Liang, Chemist, Office of Food Safety, Center for Food Safety and Applied Nutrition, U.S. Food and Drug Administration, 5001 Campus Drive, College Park, MD 20740, Phone: +1 (240) 402-2785, Charlotte.Liang@fda.hhs.gov.

WORLDWIDE COMMODITY CODEX COMMITTEES (ADJOURNED)

Cocoa Products and Chocolate (adjourned sine die 2001)

(Host Government—Switzerland)

U.S. Delegate

Michelle Smith, Ph.D., Senior Policy Analyst, Office of Food Safety, Center for Food Safety and Applied Nutrition, U.S. Food and Drug Administration (HFS-317), Harvey W. Wiley Federal Building, 5001 Campus Drive, College Park, MD 20740-3835, Phone: +1 (240) 402-2024, Fax: +1 (301) 436-2632, Michelle.Smith@fda.hhs.gov.

Fish and Fishery Products (adjourned sine die 2016)

(Host Government—Norway)

U.S. Delegate

Dr. William R. Jones, Deputy Director, Office of Food Safety (HFS-300), U.S. Food and Drug Administration, 5001 Campus Drive, College Park, MD 20740, Phone: +1 (240) 402-2300, Fax: +1 (301) 436-2601, William.Jones@fda.hhs.gov.

Alternate Delegate

Steven Wilson, Deputy Director, Office of International Affairs and Seafood Inspection, National Marine Fisheries Service, NOAA, U.S. Department of Commerce, 1315 East-West Highway, Silver Spring, Maryland 20910, Phone: +1 (301) 427-8312, Steven.Wilson@noaa.gov.

Meat Hygiene (adjourned sine die 2003)

(Host Government—New Zealand)

U.S. Delegate

Vacant

Natural Mineral Waters (adjourned sine die 2008)

(Host Government—Switzerland)

U.S. Delegate

Dr. Yinqing Ma, Branch Chief, Beverages Branch, Division of Plant Products and Beverages, Office of Food Safety (HFS-317), Center for Food Safety and Applied Nutrition, U.S. Food and Drug Administration, 5001 Campus Drive, College Park, MD 20740, Phone: +1 (240) 402-2479, Fax: +1 (301) 436-2632, Yinqing.Ma@fda.hhs.gov.

Vegetable Proteins (adjourned sine die 1989)

(Host Government—Canada)

U.S. Delegate

Vacant

AD HOC INTERGOVERNMENTAL TASK FORCES (DISSOLVED)

Animal Feeding (Dissolved 2013)

(Host Government—Switzerland)

U.S. Delegate

Daniel G. McChesney, Ph.D., Director, Office of Surveillance & Compliance, Center for Veterinary Medicine, U.S. Food and Drug Administration, 7529 Standish Place, Rockville, MD 20855, Phone: +1 (240) 402-7140, Fax: +1 (240) 453-6880, Daniel.McChesney@fda.hhs.gov.

Alternate Delegate

Dr. Patty Bennett, Humane Handling Enforcement Coordinator, Office of Field Operations Food Safety and Inspection Service, U.S. Department of Agriculture, 1400 Independence Avenue, Room 3155-S, Washington, DC 20250, Phone: +1 (202) 720-5397, Patty.Bennett@fsis.usda.gov.

Antimicrobial Resistance (Re-established 2016)

(Host Government—Republic of Korea)

U.S. Delegate

Donald A. Prater, DVM, Assistant Commissioner for Food Safety Integration, Office of Foods and Veterinary Medicine, Food and Drug Administration, 10903 New Hampshire Avenue, Silver Spring, MD 20993, Tel: +1-301-348-3007, Email: donald.prater@fda.hhs.gov.

Alternate Delegate

Neena Anandaraman, DVM, MPH, Veterinary Science Policy Advisor, Office of Chief Scientist, U.S. Department of Agriculture, DCWA2-339 Whitten Building, 1200 Independence Avenue SW., Washington, DC 20024, Tel: +1-202-260-8789, Email: Neena.Anandaraman@osec.usda.gov.

[FR Doc. 2017-18832 Filed 9-5-17; 8:45 am]

BILLING CODE 3410-DM-P